DEPARTMENT OF ENERGY

Federal Energy Regulatory Commission

[Docket No. RP00-264-000]

Northern Natural Gas Company; Notice of Proposed Changes in FERC Gas Tariff

May 4, 2000.

Take notice that on May 1, 2000, Northern Natural Gas Company (Northern) tendered for filing to become part of Northern's FERC Gas Tariff, Fifth Revised Volume No. 1, the following tariff sheets to become effective June 1, 2000:

Fifth Revised Sheet No. 1

Sixth Revised Sheet No. 2

49 Revised Sheet No. 53

First Revised Sheet No. 56

Sheet No. 57

Fourth Revised Sheet No. 143

Ninth Revised Sheet No. 144

Third Revised Sheet No. 145

First Revised Sheet No. 158

Original Sheet No. 159

Original Sheet No. 160

Original Sheet No. 161

Original Sheet No. 162

Original Sheet No. 163

Original Sheet No. 164

Sheet No. 165

Fourth Revised Sheet No. 302

First Revised Sheet No. 461

Original Sheet No. 462

Sheet No. 463

Sixth Revised Sheet No. 206

Fifth Revised Sheet No. 220

Second Revised Sheet No. 228

Second Revised Sheet No. 251

Fourth Revised Sheet No. 252

Third Revised Sheet No. 261

Sixth Revised Sheet No. 263A

Sixth Revised Sheet No. 265

Third Revised Sheet No. 266

Second Revised Sheet No. 271

Fifth Revised Sheet No. 288

Second Revised Sheet No. 271

Fifth Revised Sheet No. 288

Third Revised Sheet No. 289

Third Revised Sheet No. 290

Fourth Revised Sheet No. 300

Northern is submitting the attached tariff sheets to implement an optional volumetric firm throughput service under new Rate Schedule VFT. This service will be available to new customers and as a conversion option for Northern's current firm customers under Rate Schedules TF and TFX. The rate for VFT service will be a one-part volumetric rate derived from Northern's current firm rates. For current Northern firm customers, VFT service permits a customer to convert all of its long-term (i.e., one year or more) firm transportation entitlement to a one-part, volumetric rate based on the customer's historical load factor. VFT service is also available to new customers desiring long-term capacity on Northern's system and would be based on the customer's projected load factor.

Northern states that copies of the filing were served upon Northern's customers and interested State Commissions.

Any person desiring to be heard or to protest said filing should a motion to intervene or a protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-11621 Filed 5-9-00; 8:45 am]

BILLING CODE 6717-01-M